DEPARTMENT OF DEFENSE

Office of the Secretary

[Docket ID DOD-2011-OS-0080]

Privacy Act of 1974; System of Records; Correction

AGENCY: Department of Defense (DoD), Office of the Secretary.

ACTION: Notice to alter a system of records; correction.

SUMMARY: On July 21, 2011 (76 FR 43666-43673), DoD published a notice announcing its intent to alter a Privacy Act System of Records. Routine use number 22 a. was incorrectly written. This notice corrects that error.

DATES: Effective August 3, 2011.

FOR FURTHER INFORMATION CONTACT: Chief, OSD/JS Privacy Office, Freedom of Information Directorate, Washington Headquarters Services, 1155 Defense Pentagon, Washington, DC 20301-1155, telephone: (703) 588-6830.

SUPPLEMENTARY INFORMATION: On July 21, 2011, DoD published a notice announcing its intent to alter a system in its inventory of Privacy Act System of Records: Defense Enrollment Eligibility Recording System (DEERS). Subsequent to the publication of that notice, DoD discovered that the routine use on page 43669 was incorrectly published.

Correction

In the notice (FR Doc. 2011-18397) published on July 21, 2011, (76 FR 43666-43673) make the following correction. On page 43672, in the second column, replace paragraph 22 a. with “Providing all Reserve Component military members to be matched against the Federal agencies for identifying those Reserve military members that are also Federal civil service employees with eligibility for the Federal Employees Health Benefits (FEHB) program. This disclosure by the Federal agencies will provide the DoD with the FEHB eligibility and Federal employment information necessary to determine initial and continuing eligibility for the TRICARE Reserve Select (TRS) program and the TRICARE Retired Reserve (TRR) program (collectively referred to as purchased TRICARE programs). Reserve Component members who are not eligible for FEHB are eligible for TRS (section 1076d of title 10) or TRR (section 1076e of title 10).”

Dated: July 26, 2011.
Aaron Siegel,
Alternate OSD Federal Register Liaison Officer, Department of Defense.

[FR Doc. 2011-19552 Filed 8-2-11; 8:45 am]

BILLING CODE 5001-06-P